DEPARTMENT OF ENERGY

Federal Energy Regulatory Commission

[Docket No. IC18-15-000]

Commission Information Collection Activities (FERC-587); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-587 (Land Description (Public Land States/Non-Public Land States [Rectangular or Non-Rectangular Survey System Lands in Public Land States])).

DATES: Comments on the collection of information are due September 10, 2018.

ADDRESSES: You may submit comments (identified by Docket No. IC18-15-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-587, Land Description (Public Land States/Non-Public Land States [Rectangular or Non-Rectangular Survey System Lands in Public Land States]).

OMB Control No.: 1902-0145.

Type of Request: Three-year extension of the FERC-587 information collection reporting requirements.

Abstract: The Commission requires the FERC-587 information collection to satisfy the requirements of section 24 of the Federal Power Act (FPA). The Federal Power Act grants the Commission authority to issue licenses for the development and improvement of navigation and for the development, transmission, and utilization of power across, along, from or in any of the steams or other bodies of water over which Congress has jurisdiction.¹ The Electric Consumers Protection Act (ECPA) amends the FPA to allow the Commission the responsibility of issuing licenses for nonfederal hydroelectric plants.²

¹ 16 U.S.C. Section 797d (2010).

² Public Law 99-495, 100 Stat. 1243 (1996).

Section 24 of the FPA requires that applicants proposing hydropower projects on (or changes to existing projects located within) lands owned by the United States to provide a description of the applicable U.S. land. Additionally, the FPA requires the notification of the Commission and Secretary of the Interior of the hydropower proposal. FERC-587 consolidates the information required and identifies hydropower project boundary maps associated with the applicable U.S. land.

The information consolidated by the Form No. 587 verifies the accuracy of the information provided for the FERC-587 to the Bureau of Land Management (BLM) and the Department of the Interior (DOI). Moreover, this information ensures that U.S. lands can be reserved as hydropower sites and withdrawn from other uses.

The Commission is also making the following changes to the FERC Form No. 587 instructions. FERC is not changing the reporting requirements of the information collection:

Paragraph 3

—Revise Paragraph 3 ³ as follows:

³ Any references to “microfilm” and “aperture cards” within 18 CFR part 4.39 were removed by the Final Rule in RM14-20-000 (issued 7/17/2014, published in the Federal Register at 79 FR 42973 on 7/24/2014).

From | To
Microfilm copies of the project boundary maps must be submitted with the land description forms as directed by FERC. Each map must be reproduced on silver or gelatin 35 mm microfilm mounted on type D (3-1/4″ X 7-3/8″) aperture cards. The project number followed by a hyphen and sheet number or letter must be typed on the front of each card in the upper right corner | Electronic file format copies of the project boundary map(s), also referred to as Exhibit G drawing(s), must be submitted with the land description form(s) as directed by FERC.

Paragraph 4

—Revise Paragraph 4 as follows:

From | To
Mail a copy of the completed land description forms and aperture cards to: Secretary, Routing Code PJ-12, Federal Energy Regulatory Commission, 888 First Street NE, Washington, DC 20426 | Mail a copy of the completed land description form(s) and the electronic file format drawing(s) to: Secretary, Federal Energy Regulatory Commission, ATTN: OEP/DHAC, 888 First Street NE, Washington, DC 20426.
Another copy of the form FERC-587 must be filed with the Bureau of Land Management state office(s) involved using the format below. Go to the following internet address to get mailing address for a particular State Office (http://www.blm.gov/nhp/directory/index.htm). State Director, Bureau of Land Management, City, State Zip, ATTN: FERC Withdrawal Recordation | Another copy of the form FERC-587 and electronic file format drawings must be filed with the Bureau of Land Management state office(s) involved using the format below. Go to the following internet address to get mailing address for a particular State Office (https://www.blm.gov/programs/lands-and-realty/land-tenure). State Director, Bureau of Land Management, City, State Zip, ATTN: FERC Withdrawal Recordation.

Paragraph 5

—Revise Paragraph 5 as follows:

From | To
Keep the land description forms and project boundary drawings up-to-date. If the project boundary changes, revised land description forms and drawings must be provided to the Commission immediately. The revised land description forms must be fully completed so as to supersede (not supplement) earlier forms. Mail updates in accordance with instruction 4 | Keep the land description forms and project boundary drawings up-to-date. If the project boundary changes, revised land description forms and drawings must be provided to the Commission immediately. The revised land description forms must be fully completed so as to supersede (not supplement) earlier forms. Mail updates in accordance with instruction 4.
If there are any questions, please contact the FERC at (202) 502-8872 | If there are any questions, please contact the FERC at 844-434-0053 or FERCOnlineSupport@ferc.gov.

Access to the Revised Materials: There is one attachment (Attachment A) that contains a version of Form No. 587 that incorporates all of the aforementioned changes within this Notice. Attachment A will be attached to this Notice within Docket No. IC18-15-000, but will not be published in the Federal Register. Interested parties can see this attachments electronically as part of this Notice in FERC's eLibrary (http://www.ferc.gov/docs-filing/elibrary.asp) by searching for Docket No. IC18-15-000.

Type of Respondents: Applicants proposing hydropower projects on (or changes to existing projects located within) lands owned by the United States.

Estimate of Annual Burden ⁴: The Commission estimates the annual public reporting burden for the information collection as:

⁴ “Burden” is the total time, effort, or financial resources expended by persons to generate, maintain, retain, or disclose or provide information to or for a Federal agency. For further explanation of what is included in the information collection burden, refer to Title 5 CFR 1320.3.

FERC-587—Land Description (Public Land States/Non-Public Land States [Rectangular or Non-Rectangular Survey System Lands in Public Land States])
| Number of respondents | Annual number of responses per respondent | Total number of responses | Average burden hours and cost per response ⁵ | Total annual burden hours and total annual cost | Cost per respondent
| (1) | (2) | (1) * (2) = (3) | (4) | (3) * (4) = (5) | ($) (5) ÷ (1)
Hydropower Project Applicants | 137 | 1 | 137 | 1 hr.; $79 | 137 hrs.; $10,823 | $79

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ The estimates for cost per response are derived using the following formula: 2018 Average Burden Hours per Response * $79 per Hour = Average Cost per Response. The hourly cost figure of $79 is the 2018 average FERC hourly cost for wages plus benefits. We assume for FERC-587 that respondents earn at a similar rate.

Dated: July 3, 2018.
Kimberly D. Bose,
Secretary.

[FR Doc. 2018-14778 Filed 7-10-18; 8:45 am]

BILLING CODE 6717-01-P